DEPARTMENT OF COMMERCE

Census Bureau

Proposed Information Collection; Comment Request; SSA Supplement on Retirement, Pensions, and Related Content (SSA Supplement), 2014

AGENCY: U.S. Census Bureau.

ACTION: Notice.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: To ensure consideration, written comments must be submitted on or before March 31, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jason M. Fields, Census Bureau, Room HQ-7H069, Washington, DC 20233-8400, (301) 763-2465 (or via the Internet at jason.m.fields@census.gov).

SUPPLEMENTARY INFORMATION:

I. Abstract

The Census Bureau plans to conduct a survey for the Social Security Administration (SSA) beginning in September 2014. The survey is the SSA Supplement on Retirement, Pensions, and Related Content (SSA Supplement), which is the first externally sponsored supplement to the newly redesigned Survey of Income and Program Participation (SIPP). The sample for the SSA Supplement will come from completed interviews from Wave 1 of the 2014 panel of the Survey of Income and Program Participation, conducted from February to May of 2014 (2014 SIPP, OMB approval number 0607-0977). The SSA Supplement is expected to be conducted once per SIPP Panel, after the completion of Wave 1 interviews. Questions in the SSA Supplement are from 2008 SIPP topical modules selected by the SSA, with minimal modifications (2008 SIPP, OMB approval number 0607-0944).

The SSA bases two of its major policy micro-simulations on the SIPP: (1) Modeling Income in the Near Term (MINT) for evaluating Social Security reform; and, (2) the Financial Eligibility Model (FEM) for evaluating Supplemental Security Income, Qualified Medicare Beneficiary, and Medicare Part-D Low Income Subsidy programs. Recent economic events have had a profound impact on the overall economic well-being of our nation, and underscore the importance of the data the Social Security Administration is seeking to collect. Of specific importance to the SSA is the impact of this economic crisis on current and future beneficiaries. Since the 1996 SIPP panel, the SSA has used data collected by the SIPP for policy evaluation research and the modification of government programs. Prior to the 2014 SIPP redesign, the data came from core questions asked each wave and from intermittent topical supplements. As part of an effort to streamline the annual data collection in the SIPP instrument, the redesigned SIPP does not include some topical data previously used by the SSA for the MINT and FEM models. These items include detailed questions on personal retirement accounts, retirement and pension plans from current and previous employment, complete marital history, and functional limitations and disabilities affecting employment and daily living. The SSA Supplement will continue the collection of this necessary data which the SSA cannot obtain from any other source.

The Census Bureau, through sponsorship by the SSA, plans to collect the SSA Supplement data using Computer Assisted Telephone Interviewing (CATI). Interviews for the SSA supplement will not be conducted through personal visits.

Approximately 35,000 households are expected to be interviewed from the initial sample fielded in Wave 1 of the 2014 SIPP panel. Each household averages 2.1 people aged 15 and above, yielding approximately 73,500 person-level interviews. The sample for the SSA Supplement will consist of all households that have completed interviews, either in person or by telephone, from 2014 SIPP Wave 1. New additions to the household between the 2014 SIPP interview and the SSA Supplement interview will not be included in the SSA Supplement; however, movers will be followed and interviewed, as they are in the SIPP. Interviews take approximately 30 minutes per adult on average; consequently, the total burden for SSA Supplement interviews will be 36,750 hours.

The Census Bureau will release a public use file for availability to general data users via its Web site, with the ability to match to the 2014 SIPP public-use file.

II. Method of Collection

The SSA Supplement will use the Computer Assisted Telephone Interview (CATI) mode of data collection. The SSA Supplement will be conducted as one interview per person once per SIPP Panel, after the completion of Wave 1 interviews. The interviews for the SSA Supplement will be conducted via the Census Bureau's three telephone centers with all household members 15 years old or over using regular proxy-respondent rules. The SSA Supplement interviews are expected to last 2 to 3 months beginning in September 2014.

III. Data

OMB Control Number: 0607-XXXX.

Form Number: SSA Supplement/CATI Automated Instrument.

Type of Review: Regular.

Affected Public: Individuals or households.

Estimated Number of Respondents: 73,500.

Estimated Time per Response: 30 minutes.

Estimated Total Annual Burden Hours: 36,750.

Estimated Total Annual Cost: The only cost to respondents is their time.

Respondent's Obligation: Voluntary.

Legal Authority: Title 13, United States Code, Section 8(b) and Section 1110 of the Social Security Act.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 24, 2014.
Gwellnar Banks,
Management Analyst, Office of the Chief Information Officer.

[FR Doc. 2014-01755 Filed 1-29-14; 8:45 am]

BILLING CODE 3511-07-P